DEPARTMENT OF THE INTERIOR

Bureau of Land Management

[CA-310-1820-XX]

Emergency Closure of Red Mountain Road on BLM-managed public lands near Piercy, CA

AGENCY: Bureau of Land Management, Interior.

ACTION: Notice of emergency closure of Red Mountain Road due to danger from wildfire.

SUMMARY: Notice is hereby given that Red Mountain Road, located on public land managed by the Bureau of Land Management approximately eight miles east of Piercy, California, is closed to public access due to dangers posed by the Nobles Fire. Exempted from this closure are vehicles and personnel involved with fighting the Nobles Fire, federal, state and local officers involved in the enforcement of their duties, and Red Mountain Road area residents who show valid identification. This closure is necessary to protect public health and safety.

SUPPLEMENTARY INFORMATION: The closure begins at the junction of Red Mountain Road and U. S. Highway 101 at T24N, R17E, NE corner of Section 7, and continues through the fire area. This closure is made under the authority of 43 CFR 8364. Any person who fails to comply with the provisions of this closure order may be subject to the penalties provided in 43 CFR 8360.0-7.

EFFECTIVE DATE: The closure is in effect with posting of this notice and remains in effect until the authorized officer determines that the fire no longer poses a public safety risk.

FOR FURTHER INFORMATION CONTACT: BLM Arcata Field Manager Lynda J. Roush, 707-825-2300 or by e-mail at lynda_roush@ca.blm.gov; or Tim Jones, fire management officer, 707-825-2300, or by e-mail at timothy_jones@ca.blm.gov.

Dated: September 21, 2006.
Joseph J. Fontana,
Public Affairs Officer, BLM Northern California.

[FR Doc. E6-16336 Filed 10-3-06; 8:45 am]

BILLING CODE 4310-40-P